FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant:

Oriental Air Transport (Chicago) Inc.; dba A.T. International, 1329 W. Irving Park Rd., Suite 207, Bensenville, IL 60106. Officer:Steven C. Hugh, President (Qualifying Individual).

Ocean Freight Forwarder—Ocean Transportation Intermediary Applicants:

Marietha International Forwarding, LLC., 3501 North Causeway Blvd., Suite 324, Metairie, LA 70002. Officer:Marietha Barrett, Owner (Qualifying Individual).

AIT International, LLC., 11835 South Ridgewood Circle, Houston, TX 77071. Officers:Owen Anderson, President, (Qualifying Individual) Nichelle Jones, CEO.

Pacific Systems, Inc., 235 Vaness Drive, McDonough, GA 30253. Officers:Remigius Idaewor, CEO, (Qualifying Individual) Edith Idaewor, President.

Dated: July 27, 2007.
Bryant L. VanBrakle,
Secretary.

[FR Doc. E7-14917 Filed 7-31-07; 8:45 am]

BILLING CODE 6730-01-P